DEPARTMENT OF TRANSPORTATION

Federal Aviation Administration

Notice of Intent To Rule on Application 04-06-C-00-BTM to Impose and Use the Revenue from a Passenger Facility Charge (PFC) at Bert Mooney Airport, Submitted by the Bert Mooney Airport Authority, Bert Mooney Airport, Helena, MT

AGENCY: Federal Aviation Administration (FAA), DOT.

ACTION: Notice of intent to rule on application.

SUMMARY: The FAA proposes to rule and invites public comment on the application to impose and use PFC revenue at Bert Mooney Airport under the provisions of 49 U.S.C. 40117 and part 158 of the Federal Aviation Regulations (14 CFR part 158).

DATES: Comments must be received on or before August 9, 2004.

ADDRESSES: Comments on this application may be mailed or delivered in triplicate to the FAA at the following address: David S. Stelling, Manager, Helena Airports District Office, HLN-ADO, Federal Aviation Administration, FAA Building, Suite 2,2725 Skyway Drive, Helena, Montana 59602-1213.

In addition, one copy of any comments submitted to the FAA must be mailed or delivered to Rick Griffith, Airport Manager: Bert Mooney Airport, 101 Airport Road, Butte, Montana 59701.

Air Carriers and foreign air carriers may submit copies of written comments previously provided to Bert Mooney Airport, under § 158.23 of part 158.

FOR FURTHER INFORMATION CONTACT: David S. Stelling, Manager, Helena Airports District Office, HLN-ADO, Federal Aviation Administration, FAA Building, Suite 2,2725 Skyway Drive, Helena, Montana 59602-1213. The application may be reviewed in person at this same location.

SUPPLEMENTARY INFORMATION: The FAA proposes to rule and invites public comment on the application 04-06-C-00-BTM to impose and use PFC revenue at Bert Mooney Airport, under the provisions of 49 U.S.C. 40117 and part 158 of the Federal Aviation Regulations (14 CFR part 158).

On June 30, 2004, the FAA determined that the application to impose and use the revenue from a PFC submitted by Bert Mooney Airport Authority, Bert Mooney Airport, Butte, Montana, was substantially complete within the requirements of § 158.25 of part 158. The FAA will approve or disapprove the application, in whole or in part, no later than September 29, 2004.

The following is a brief overview of the application.

Level of the proposed PFC: $3.00.

Proposed charge effective date: March 1, 2005.

Proposed charge expiration date: January 1, 2007.

Total requested for use approval: $189,711.

Brief description of proposed project: Improve Airport Security; Acquire Snow Removal Equipment; Construct Snow Removal Equipment Building; Rehabilitate West General Aviation Apron; Install Southside Security/Wildlife Fence; Update Airport Master Plan; Maintain Pavement (Runway 15/33); Maintain Pavement (Runway 11/29); Maintain Pavement (Commercial Ramp).

Class or classes of air carrier that the public agency has requested not be required to collect PFC's: Air Taxi/Commercial Operators (ATCO) filing FAA Form 1800-31.

Any person may inspect the application in person at the FAA office listed above under FOR FURTHER INFORMATION CONTACT and at the FAA Regional Airports Office located at: Federal Aviation Administration, Northwest Mountain Region, Airports Division, ANM-600, 1601 Lind Avenue, SW., Suite 315, Renton, WA 98055-4056.

In addition, any person may, upon request, inspect the application, notice and other documents germane to the application in person at the Bert Mooney Airport.

Issued in Renton, Washington, on June 30, 2004.
David A. Field,
Manager, Planning, Programming and Capacity Branch, Northwest mountain Region.

[FR Doc. 04-15649 Filed 7-8-04; 8:45 am]

BILLING CODE 4910-13-M